ENVIRONMENTAL PROTECTION AGENCY

40 CFR Parts 52, 75, 78, and 97

[EPA-HQ-OAR-2021-0668; FRL-8670-03-OAR]

Federal Implementation Plan Addressing Regional Ozone Transport for the 2015 Ozone National Ambient Air Quality Standard

AGENCY: Environmental Protection Agency (EPA).

ACTION: Proposed rule; extension of comment period.

SUMMARY: On April 6, 2022, the Environmental Protection Agency (EPA) proposed a rule titled, “Federal Implementation Plan Addressing Regional Ozone Transport for the 2015 Ozone National Ambient Air Quality Standard.” The EPA is extending the comment period on proposed rule that was scheduled to close on June 6, 2022. The EPA has received several requests for additional time to review and comment on the proposed rule revisions.

DATES: The public comment period for the proposed ruled published in the Federal Register on April 6, 2022 (87 FR 20036), is being extended. Written comments must be received on or before June 21, 2022.

ADDRESSES: The EPA has established docket number EPA-HQ-OAR-2021-0668 for this action. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions and general guidance on making effective comments, please visit http://www2.epa.gov/dockets/commenting-epa-dockets.

FOR FURTHER INFORMATION CONTACT: For additional information on this action, contact Ms. Elizabeth Selbst, Air Quality Policy Division, Office of Air Quality Planning and Standards (C539-01), Environmental Protection Agency, 109 TW Alexander Drive, Research Triangle Park, NC 27711; telephone number: (919) 541-3918; email address: Selbst.elizabeth@epa.gov.

SUPPLEMENTARY INFORMATION: After considering the requests to extend the public comment period received from various parties, the EPA has decided to extend the public comment period until June 21, 2022. This extension will ensure that the public has additional time to review the proposed rule.

Scott Mathias,
Director, Air Quality Policy Division, Office of Air Quality Planning and Standards.

[FR Doc. 2022-10124 Filed 5-11-22; 8:45 am]

BILLING CODE 6560-50-P